DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, October 18, 2016, 02:00 p.m. to October 18, 2016, 04:00 p.m., National Institutes of Health, 6710B Rockledge Drive, Bethesda, MD 20892 which was published in the Federal Register on September 08, 2016, 18 FR 62158.

The meeting date has changed from October 18, 2016, 2:00 p.m. to 4:00 p.m. to October 26, 2016, 2:00 p.m. to 4:00 p.m. The meeting is closed to the public.

Dated: September 13, 2016.
Michelle Trout,
Program Analyst, Office of Federal Advisory Committee Policy.

[FR Doc. 2016-22393 Filed 9-16-16; 8:45 am]

BILLING CODE 4140-01-P